DEPARTMENT OF AGRICULTURE

Rural Utilities Service

Notice of Intent; Request for Comments on Adoption of the U.S. Army Corps of Engineers' Grand Prairie Area Demonstration Project General Reevaluation Report and Final Environmental Impact Statement, Arkansas, Lonoke, Monroe and Prairie Counties, AR

AGENCY: Rural Utilities Service, USDA.

ACTION: Notice of intent to adopt reevaluation report and final environmental impact statement.

SUMMARY: The Rural Utilities Service (RUS) an agency of the United States Department of Agriculture is giving notice of its intent to adopt the U.S. Army Corps of Engineers' (USACE) existing general reevaluation report and final environmental impact statement (GRR/EIS) for the Grand Prairie Area Demonstration Project, Arkansas (project). RUS is considering providing funding to the applicant, the White River Regional Irrigation Water Distribution District (WRID) to construct a portion of the project consisting of activities that have been identified, designed and reviewed under the Corps' existing GRR/EIS. Based on independent RUS evaluation, adoption of the GRR/EIS would meet the Council on Environmental Quality (CEQ) and RUS regulations and guidance for implementing the National Environmental Policy Act (NEPA). To fulfill RUS's NEPA requirements and support a funding decision, we are recirculating the GRR/EIS for written public comment via this notice, in accordance with CEQ and RUS adoption guidelines.

DATES: Written comments on this Notice must be received on or before May 30, 2014.

ADDRESSES: Send written comments to: Mark Plank, Director, Engineering and Environmental Staff, USDA Rural Utilities Service, 1400 Independence Ave. SW., Stop 1571, Room 2242-S, Washington, DC 20250. The GRR/EIS and related documents referenced in this notice are available at http://www.mvm.usace.army.mil/Missions/Projects/GrandPrairieAreaDemonstrationProject/Maps,ReportsStudies/GeneralReevaluationReport.aspx. To the extent practicable, these documents can be made available for public review in alternative formats by contacting the individual listed under FOR FURTHER INFORMATION CONTACT to request documents in alternative formats. We provide this notice under regulations implementing NEPA and invite the public to review the GRR/EIS during the 30-day comment period (see DATES). Before including your address, phone number, email address or other personal identifying information in your comment, please be aware that your entire comment—including personal identifying information—may be made publicly available at any time. RUS will endeavor to withhold personal identifying information from public review upon request, but we cannot guarantee that we will be able to do so.

As provided for pursuant to 36 CFR 800.2(d)(3), RUS is using this notice to comply with the requirement under 36 CFR 800.2(d) that the agency seek and consider the views of the public regarding effects to historic properties prior to making a decision on the project.

FOR FURTHER INFORMATION CONTACT: Richard Fristik, Senior Environmental Protection Specialist, USDA Rural Utilities Service, 1400 Independence Ave. SW., Stop 1571, Room 2240-S, Washington, DC 20250, Telephone: (202) 720-5093, Facsimile: (202) 690-0649, or email richard.fristik@wdc.usda.gov.

SUPPLEMENTARY INFORMATION: RUS' proposed funding action is for activities already identified, designed and reviewed under the GRR/EIS. Adoption and recirculation for public written comment of the GRR/EIS fulfills RUS' requirements under CEQ (40 CFR 1506.3(b)) and Agency (7 CFR 1794.72(b)) NEPA implementing regulations. Recent CEQ guidance encourages agencies to “. . . coordinate and take appropriate advantage of existing documents and studies, including through adoption and incorporation by reference” as a means of improving NEPA efficiency (see “Improving the Process for Preparing Efficient and Timely Environmental Reviews under the National Environmental Policy Act” at http://ceq.hss.doe.gov/current_developments/docs/Improving_NEPA_Efficiencies_06Mar2012.pdf).

The overall Grand Prairie project area is located about 40 miles east of Little Rock and is generally outlined by the White River to the east, Bayou Meto to the west, Interstate 40 to the north and Highway 165 to the south. The area encompasses the towns of DeValls Bluff, Hazen, Carlisle, Stuttgart, Ulm and DeWitt; the entire study area is about 15 miles east to west and 50 miles north to south, or approximately 362,600 acres. Historically, the Grand Prairie was the largest (nearly 500,000 acres) of several discontinuous prairies that occupied Arkansas and Louisiana. Due to cultivation only about .01 percent of this prairie remains today. The proposed project for which RUS funding would be provided consists of an electrical substation to provide power to the pump station at the White River, portions of the secondary water delivery system to serve approximately 20 farms over 10,000 acres, and establishment of prairie vegetation and waterfowl habitat.

The USACE prepared the following documents to meet their federal requirements:

• “Eastern Arkansas Region Comprehensive Study, Grand Prairie Area Demonstration Project, General Reevaluation Report, Volume 1—Main Report & Final Environmental Impact Statement (EIS),” September 1999 (GRR/EIS).

• “Record of Decision, Grand Prairie Area Demonstration Project,” Arkansas, February 2000, (ROD).

• “Final Environmental Assessment, Grand Prairie Area Demonstration Project, Arkansas, Post General Reevaluation Design Changes,” July 2004, (EA1).

• “Finding of No Significant Impact, Grand Prairie Area Demonstration Project, Arkansas, Post General Reevaluation Design Changes,” July 2010, (FONSI1).

• “Environmental Assessment, Grand Prairie Area Demonstration Project, Canal Realignment and Pumping Station Borrow Area, Prairie County, Arkansas,” September 2010, (EA2).

• “Finding of No Significant Impact, Grand Prairie Area Demonstration Project, Canal Realignment and Pumping Station Borrow Area, Prairie County, Arkansas,” September 2010 (FONSI2).

The particular authority under which the overall project is authorized and funded requires a 65 percent federal/35 percent non-federal cost share. The WRID and the Arkansas Natural Resources Commission (ANRC) are the non-federal partners. RUS funding would comprise the non-federal cost share for the project portion. The ANRC is the state agency with legal authority and responsibility for protection and management of Arkansas' water resources, including groundwater. The ANRC strongly supports the implementation of projects that develop surface water resources to supplement and protect diminishing groundwater reserves. The Grand Prairie, Arkansas project was developed to be consistent with the Arkansas State Water Plan. The ANRC, in partnership with the WRID, has indicated their intent to serve as local sponsor for the project and assume the responsibilities of local cooperation.

Numerous other studies have been completed that document the water supply and groundwater depletion issues (the primary problem that the project addresses), starting as far back as the late 1920's. Continued withdrawals at the current rate will deplete the Mississippi River Valley Alluvial aquifer such that it will no longer be a viable source of irrigation water, and agriculture as it is now practiced will be impossible. The project was re-authorized, and the scope expanded, in the Water Resources Development Act of 1996. The general reevaluation was conducted to fully evaluate and determine the best plan of improvement for flood control, agricultural water supply, and waterfowl management. Alternatives were developed and analyzed using USACE planning criteria to develop a plan consisting of measures that best meet the area's needs. Once the plan was identified, detailed engineering and design studies were completed to the level of detail required for preparation of a baseline cost estimate and schedule for implementation. The following were identified as planning objectives: (1) Protect and preserve the alluvial aquifer; (2) Maximize the use of water conservation; (3) Provide a supplemental water supply to meet the irrigation water needs of the Grand Prairie area; (4) Enhance fish and wildlife habitat; (5) Restore native prairies; (6) Minimize cost and maximize outputs.

The GRR/EIS evaluates seven alternatives for meeting the identified problems and opportunities: No Action (Alternative 1); Storage Only (Alternative 2); Conservation w/Storage (Alternative 3); Import System Plus Conservation w/no Additional Storage (Alternative 4); Combination Import System Plus Conservation and Storage (Alternative 5); Combination Alternative w/Additional Storage (Alternative 6). Alternatives 5 and 6 each considered 2 levels of on farm storage and 7 different river water withdrawal rates. Alternative 7, which was considered to incorporate the refined set of previous alternatives, was used to optimize the water import system size. The selected plan was Alternative 7B, which maximized National Economic Development (NED) benefits. This alternative consists of a 1640 cubic feet per second (cfs) import and primary distribution system, increased irrigation efficiencies, ground water sustenance through maintenance of a “safe yield”, additional on-farm storage, and environmental features to benefit waterfowl, fisheries, and native prairie vegetation. The environmental benefits result from project design, specific restoration, or mitigation.

On January 13, 2009, the USACE, Natural Resources Conservation Service (NRCS), the Advisory Council on Historic Preservation (ACHP) and the Arkansas State Historic Preservation Office (SHPO) executed a Programmatic Agreement (PA) titled, “Programmatic Agreement Among the U.S. Army USACE of Engineers, Memphis District, the Natural Resources Conservation Service, the Arkansas State Historic Preservation Officer, the Quapaw Tribe of Oklahoma, the Cherokee Nation of Oklahoma, the Mississippi Band of Choctaw Indians, the Osage Nation of Oklahoma, the United Keetoowah Band of Cherokee Indians in Oklahoma, Thlopthlocco Tribal Town, the Alabama-Quassarte Tribal Town, Other Signatory and Concurring Tribes, the White River Regional Irrigation Water Distribution District, the Arkansas Natural Resources Commission and the Advisory Council on Historic Preservation Regarding Implementation of the Grand Prairie Demonstration Project, Grand Prairie Region, Arkansas, Pursuant to the National Historic Preservation Act and Other Authorities”. This PA was developed by USACE in consultation with the following Indian tribes—the Quapaw Tribe of Oklahoma, the Cherokee Nation of Oklahoma, the Mississippi Band of Choctaw Indians, the Osage Nation of Oklahoma, the United Keetoowah Band of Cherokee Indians in Oklahoma, Thlopthlocco Tribal Town and the Alabama-Quassarte Tribal Town—and the WRID and the Arkansas Natural Resources Commission. Under the terms of this agreement, the USACE, Memphis District, has been designated as the lead agency for Section 106 review of the Project, while the NRCS is identified as the USCAE Memphis District's on-farm agent, responsible for the design and construction of the on-farm delivery and storage system.

The PA establishes procedures for the identification and treatment of historic properties for the on-farm component of the Grand Prairie Demonstration Project (GPDP), any subsequent design changes which may be needed and the treatment of inadvertent discoveries during construction. Prior to execution of the PA, the USACE studied the area of potential effects (APE) for the Project to identify historic properties. The findings of that study are presented in a report titled, “A Comprehensive Study, Grand Prairie Demonstration Area, Arkansas, Lonoke, Monroe and Prairie Counties, Arkansas, Volume 1—Cultural Resources Overview (1996), Volume II—Findings (1999), and Volume III—Appendices (1999).” The Arkansas SHPO has reviewed and accepted the findings of these reports. The USACE used the findings of these reports to design all, but the on-farm, components of the Project in such a way as to avoid adverse effects to historic properties. Accordingly, this study coupled with the terms of the PA addresses the effects of the construction of the Project in its entirety, including the water distribution system which RUS has been asked to finance.

Since its execution, the effect of one realignment has been addressed by the USACE under the terms of the PA. That study titled, “Phase I Intensive Cultural Resources Survey for the Grand Prairie Demonstration Project Canals 1000 & 2000 Realignment, Prairie County, Arkansas,” (2010), identified no historic properties within the APE for the proposed design change. The proposed RUS decision to provide funding for the Grand Prairie Area is a federal action subject to NEPA and related federal statutes. After an independent review, we find that the GRR/EIS and ROD sufficiently address reasonable alternatives and the potential environmental effects of the activities proposed to be funded by RUS. The GRR/EIS meets the requirements of USDA and RUS NEPA procedures and guidance, and would be appropriate for adoption. RUS may receive additional requests for financial assistance for similar portions of the Grand Prairie Area Demonstration project. If additional requests are received it is the intent of the agency to issue additional Records of Decision without additional notices to adopt the USACE's GRR/EIS.

Based on the information summarized in this notice, RUS intends to adopt the USACE's final GRR/EIS to enable Agency NEPA compliance for the proposed Federal funding decision. After the close of the comment period, RUS anticipates the preparation and issuance of our Record of Decision to occur in May/June 2014. As required, RUS will conclude review under 36 CFR part 800 prior to the issuance of the Record of Decision.

Dated: April 8, 2014.
Jacqueline Ponti-Lazaruk,
Assistant Administrator, Rural Utilities Service.

[FR Doc. 2014-09829 Filed 4-29-14; 8:45 am]

BILLING CODE P